DEPARTMENT OF HOMELAND SECURITY

Coast Guard

33 CFR Part 165

[Docket No. USCG-2018-0921]

Safety Zone; Lower Mississippi River, Mile Markers 94 to 97 Above Head of Passes

AGENCY: Coast Guard, DHS.

ACTION: Notice of enforcement of regulation.

SUMMARY: The Coast Guard will enforce a safety zone for the navigable waters of the Mississippi River between mile marker (MM) 94 and (MM) 97, above Head of Passes on November 30, 2018, to provide for the safety of persons, vessels, and the marine environment on navigable waterways during a fireworks display.

DATES: The regulations in 33 CFR 165.845 will be enforced from 5:30 p.m. through 7 p.m. on November 30, 2018.

FOR FURTHER INFORMATION CONTACT: If you have questions about this notice of enforcement, call or email Lieutenant Brian Porter, Sector New Orleans Waterways Management, U.S. Coast Guard; telephone 504-365-2375, email brian.j.porter@uscg.mil.

SUPPLEMENTARY INFORMATION: The Coast Guard will enforce a temporary safety zone in accordance with the regulations in 33 CFR 165.845 from 5:30 p.m. through 7 p.m. on November 30, 2018. This action is being taken to provide for the safety of persons, vessels, and the marine environment on navigable waters during this event. Our regulation for firework displays on the Mississippi River in New Orleans specifies the location of the regulated area between mile marker 94 and 97 above Head of Passes on the Lower Mississippi River. During the enforcement period, if you are the operator of a vessel in the regulated area you must comply with directions from the Patrol Commander or any Official Patrol displaying a Coast Guard ensign.

In addition to this notice of enforcement in the Federal Register, the Coast Guard will provide notification of the enforcement period via the Local Notice to Mariners, and marine information broadcasts.

Dated: October 4, 2018.
K.M. Luttrell,
Captain, U.S. Coast Guard, Captain of the Port Sector New Orleans.

[FR Doc. 2018-22225 Filed 10-11-18; 8:45 am]

BILLING CODE 9110-04-P